DEPARTMENT OF THE INTERIOR

Bureau of Land Management

[LLWYD01000-2009-LL13100000-NB0000-LXSI016K0000]

Notice of the 2009 Meeting Schedule for the Pinedale Anticline Working Group

AGENCY: Bureau of Land Management, Department of the Interior.

ACTION: Notice of public meetings.

SUMMARY: In accordance with the Federal Land Policy and Management Act (1976) and the Federal Advisory Committee Act (1972), the U.S. Department of the Interior, Bureau of Land Management (BLM) Pinedale Anticline Working Group (PAWG) will meet in Pinedale, Wyoming for business meetings. Meetings are open to the public.

DATES: The PAWG will meet on the following dates beginning at 1 p.m. MST:

February 19, 2009;

March 26, 2009;

May 28, 2009;

July 23, 2009;

September 24, 2009.

ADDRESSES: The meetings of the PAWG will be held at the BLM Pinedale Field Office, 1625 West Pine Street in Pinedale, Wyoming.

FOR FURTHER INFORMATION CONTACT: Mr. David Crowley, PAWG Designated Federal Officer, Bureau of Land Management, Pinedale Field Office, 1625 West Pine Street, PO Box 768, Pinedale, WY 82941; 307-367-5323; dave_crowley@blm.gov.

SUPPLEMENTARY INFORMATION: The Pinedale Anticline Working Group (PAWG) was authorized and established with release of the Record of Decision (ROD) for the Final Environmental Impact Statement of the Pinedale Anticline Oil and Gas Exploration and Development Project (PAP) on July 27, 2000 and carried forward with the release of the ROD for the Final Supplemental Environmental Impact Statement (FSEIS) of the PAP on September 12, 2008.

The PAWG advises the BLM on the development and implementation of monitoring plans and adaptive management decisions as development of the Pinedale Anticline Natural Gas Field proceeds through the life of the field. The agendas for these meetings will include discussions concerning the implementation of the PAP FSEIS ROD, the development of the Anticline Project Office, any modifications the PAWG or the task groups may wish to make to their monitoring recommendations, and overall adaptive management implementation as it applies to the PAWG. At a minimum, public comments will be heard prior to adjournment of each meeting.

Dated: January 12, 2009.
William Lanning,
Associate Field Office Manager.

[FR Doc. E9-1031 Filed 1-16-09; 8:45 am]

BILLING CODE 4310-22-P